EXECUTIVE OFFICE OF THE PRESIDENT

Office of National Drug Control Policy

Submission for Review: Survey on the Treatment of Opioid Use Disorders; Correction

AGENCY: Office of National Drug Control Policy, Executive Office of the President.

ACTION: 30-Day notice and request for comments; correction.

SUMMARY: The Office of National Drug Control Policy published a document in the Federal Register on December 12, 2019 concerning the Paperwork Reduction Act; Proposed Collection; Comment Request. The document contained an incorrect address and contact information.

SUPPLEMENTARY INFORMATION:

Correction

In the Federal Register of December 12, 2019 84 FR 67963, correct the Addresses caption to read:

ADDRESSES: Interested persons are invited to submit written comments on the proposed information collection to the Office of Information and Regulatory Affairs, Office of Management and Budget, 725 17th Street NW, Washington, DC 20503, Attention: Desk Officer for the Office of National Drug Control Policy or sent via electronic mail to oira_submission@omb.eop.gov or faxed to (202) 395-6974.

Correction

In the Federal Register of December 12, 2019 84 FR 67963, correct the For Further Information Contact caption to read:

FOR FURTHER INFORMATION CONTACT: A copy of this ICR, with applicable supporting documentation, may be obtained by contacting the Office of Information and Regulatory Affairs, Office of Management and Budget, 725 17th Street NW, Washington, DC 20503, Attention: Desk Officer for the Office of National Drug Control Policy or sent via electronic mail oira_submission@omb.eop.gov or faxed to (202) 395-6974.

Dated: December 18, 2019.
Michael Passante,
Acting General Counsel.

[FR Doc. 2019-27708 Filed 12-23-19; 8:45 am]

BILLING CODE 3280-F5-P